DEPARTMENT OF ENERGY

Federal Energy Regulatory Commission

[Project No. P-15353-002]

Hybrid Renewables LLC; Notice of Intent To File License Application, Filing of Pre-Application Document, Approving Use of the Traditional Licensing Process

a. Type of Filing: Notice of Intent to File License Application and Request to Use the Traditional Licensing Process.

b. Project No.: P-15353-002.

c. Date Filed: June 2, 2025.

d. Submitted By: Hybrid Renewables LLC (Hybrid Renewables).

e. Name of Project: Oologah Lake Dam Hydroelectric Project (project).

f. Location: The project would be located at Oologah Lake Dam on the Verdigris River in Rogers County, Oklahoma. The dam is owned and operated by the U.S. Army Corps of Engineers (USACE).

g. Filed Pursuant to: 18 CFR 5.3 of the Commission's regulations.

h. Potential Applicant Contact: Tafweez E. Chauhan, Managing Director, Hybrid Renewables LLC, 1530 Key Blvd., Suite 1104, Arlington, Virginia 22209; phone at (703) 526-9797; email: Tafweez@arsinternationalinc.com.

i. FERC Contact: Kristine Sillett at 202-502-6575 or at kristine.sillett@ferc.gov.

j. Hybrid Renewables filed its request to use the Traditional Licensing Process on June 2, 2025. Hybrid Renewables provided public notice of its request on June 5, 2025. In a letter dated September 19, 2025, the Director of the Division of Hydropower Licensing approved Hybrid Renewables' request to use the Traditional Licensing Process.

k. With this notice, we are initiating informal consultation with the U.S. Fish and Wildlife Service and/or the National Marine Fisheries Service (NMFS) under section 7 of the Endangered Species Act and the joint agency regulations thereunder at 50 CFR, Part 402; and NMFS under section 305(b) of the Magnuson-Stevens Fishery Conservation and Management Act and implementing regulations at 50 CFR 600.920. We are also initiating consultation with the Oklahoma State Historic Preservation Officer, as required by section 106, National Historic Preservation Act, and the implementing regulations of the Advisory Council on Historic Preservation at 36 CFR 800.2.

l. With this notice, we are designating Hybrid Renewables as the Commission's non-federal representative for carrying out informal consultation, pursuant to section 7 of the Endangered Species Act and section 106 of the National Historic Preservation Act.

m. Hybrid Renewables filed a Pre-Application Document (PAD, including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY).

You may register online at http://www.ferc.gov/docs-filing/esubscription.asp to be notified via email of new filing and issuances related to this or other pending projects. For assistance, contact FERC Online Support.

o. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 19, 2025.
Debbie-Anne A. Reese,
Secretary.

[FR Doc. 2025-18537 Filed 9-24-25; 8:45 am]

BILLING CODE 6717-01-P